DEPARTMENT OF VETERANS AFFAIRS

[OMB Control No. 2900-0658]

Agency Information Collection Activity (Lenders Staff Appraisal Reviewer (SAR) Application) Under OMB Review

AGENCY: Veterans Benefits Administration, Department of Veterans Affairs.

ACTION: Notice.

SUMMARY: In compliance with the Paperwork Reduction Act (PRA) of 1995 (44 U.S.C. 3501-21), this notice announces that the Veterans Benefits Administration (VBA), Department of Veterans Affairs, has submitted the collection of information abstracted below to the Office of Management and Budget (OMB) for review and comment. The PRA submission describes the nature of the information collection and its expected cost and burden and includes the actual data collection instrument.

DATES: Comments must be submitted on or before June 10, 2011.

ADDRESSES: Submit written comments on the collection of information through http://www.Regulations.gov or to VA's OMB Desk Officer, OMB Human Resources and Housing Branch, New Executive Office Building, Room 10235, Washington, DC 20503, (202) 395-7316. Please refer to “OMB Control No. 2900-0658” in any correspondence.

FOR FURTHER INFORMATION CONTACT: Denise McLamb, Enterprise Records Service (005R1B), Department of Veterans Affairs, 810 Vermont Avenue, NW., Washington, DC 20420, (202) 461-7485, FAX (202) 461-0966 or e-mail denise.mclamb@va.gov. Please refer to “OMB Control No. 2900-0658.”

Title: Lenders Staff Appraisal Reviewer (SAR) Application, VA Form 26-0785.

OMB Control Number: 2900-0658.

Type of Review: Extension of a currently approved collection.

Abstract: VA Form 26-0785 is completed by lenders to nominate employees for approval as approved Staff Appraisal Reviewer (SAR). Once approved, SARs will have the authority to review real estate appraisals and to issue notices of values on behalf of VA. VA uses the information collected to perform oversight of work delegated to lenders responsible for making guaranteed VA backed loans.

An agency may not conduct or sponsor, and a person is not required to respond to a collection of information unless it displays a currently valid OMB control number. The Federal Register Notice with a 60-day comment period soliciting comments on this collection of information was published on February 15, 2011, at pages 8847-8848.

Affected Public: Business or other for-profit.

Estimated Annual Burden: 83 hours.

Estimated Average Burden per Respondent: 5 minutes.

Frequency of Response: On occasion.

Estimated Number of Respondents: 1,000.

Dated: May 5, 2011.
By direction of the Secretary.
Denise McLamb,
Program Analyst, Enterprise Records Service.

[FR Doc. 2011-11470 Filed 5-10-11; 8:45 am]

BILLING CODE 8320-01-P